DEPARTMENT OF TRANSPORTATION

Federal Aviation Administration

Notice of Intent To Rule on a Request by Clinton County for FAA Approval of a Land Release From Federal Obligations of the Site Formerly Known as Clinton County Airport, Plattsburgh, NY

AGENCY: Federal Aviation Administration (FAA) DOT.

ACTION: Notice and request for comment.

SUMMARY: The FAA proposes to rule and invite public comment for a request by Clinton County for FAA approval of a Land Release from Federal obligations of the site formerly known as Clinton County Airport, Plattsburgh, NY.

DATES: Comments must be received on or before October 5, 2015.

ADDRESSES: Comments on this application may be mailed or delivered to the following address:

Rodney L. Brown, Deputy County Administrator, Clinton County Government Center, 137 Margaret Street, Suite 208, Plattsburgh, NY 12901, (518) 565-4709.

and at the FAA New York Airports District Office:

Evelyn Martinez, Manager, New York Airports District Office, 1 Aviation Plaza, Jamaica, NY 11434, (718) 995-5771.

FOR FURTHER INFORMATION CONTACT: Ryan Allen, Community Planner, New York Airports District Office, location listed above. (718) 995-5677.

The request by Clinton County for FAA approval of a Land Release from Federal obligations of the site formerly known as Clinton County Airport may be reviewed in person at the New York Airports District Office located at 159-30 Rockaway Blvd., Suite 111, Jamaica, NY 11434.

SUPPLEMENTARY INFORMATION: The FAA invites public comment for the request by Clinton County for FAA approval of a Land Release from Federal obligations of the site formerly known as Clinton County Airport under the provisions of 49 U.S.C. 47125(a). Based on a full review, the FAA determined that this request met the procedural requirements.

The following is a brief overview of the request:

The total 615 acre site formerly known as Clinton County Airport in Plattsburgh, NY was decommissioned and closed by the owner, and all operations and assets were subsequently transferred to Plattsburgh International Airport. Clinton County, owner of the site, determined that the airport was no longer needed for airport purposes and that the aviation system would benefit from the closure and transfer of operations to Plattsburgh International Airport. The sponsor is requesting the release of Federal grant assurance obligations on the site formerly known as Clinton County Airport to allow for the sale of the property at fair market value. Sale proceeds would be utilized to offset costs associated with the closure and transfer, and any additional proceeds would be invested into Plattsburgh International Airport in accordance with 49 U.S.C. 47107 and the FAA's policy on revenue use.

Any person may inspect the request by appointment at the FAA office address listed above. Interested persons are invited to comment on the proposed land release. All comments will be considered by the FAA to the extent practicable.

Issued in Jamaica, New York, August 28, 2015.
Evelyn Martinez,
Manager, New York Airports District Office.

[FR Doc. 2015-22007 Filed 9-3-15; 8:45 am]

BILLING CODE 4910-13-P